ENVIRONMENTAL PROTECTION AGENCY

[FRL-7934-5]

Georgia-Pacific Hardwood Sawmill Site; Notice of Proposed Settlement

AGENCY: Environmental Protection Agency.

ACTION: Notice of proposed settlement.

SUMMARY: Under Section 122(h)(1) of the Comprehensive Environmental Response Compensation and Liability Act (CERCLA), the Environmental Protection Agency (EPA) has offered a cost recovery settlement at the Georgia-Pacific Hardwood Sawmill Site located in Plymouth, North Carolina. EPA will consider comments until August 8, 2005. EPA may withdraw from or modify the proposed settlement should such comments disclose facts or considerations which indicate the proposed settlement is inappropriate, improper, or inadequate. Copies of the proposed settlement is available from: Ms. Paula V. Batchelor, U.S. Environmental Protection Agency, Region 4, Superfund Enforcement and Information Management Branch, Waste Management division, 61 Forsyth Street, SW., Atlanta, Georgia 30303, (404) 562-8887, Batchelor.paula@epa.gov.

Written or e-mail comments may be submitted to Paula V. Batchelor at the above address within 30 days of the date of publication.

Dated: June 23, 2005.
Rosalind H. Brown,
Chief, Superfund Enforcement and Information Management Branch, Waste Management Division.

[FR Doc. 05-13343 Filed 7-6-05; 8:45 am]

BILLING CODE 6560-50-P